DEPARTMENT OF ENERGY

Federal Energy Regulatory Commission

[Docket No. RP99-301-021]

ANR Pipeline Company; Notice of Negotiated Rate Filing

June 12, 2001.

Take notice that on June 4, 2001, ANR Pipeline Company (ANR), tendered for filing and approval four Service Agreements between ANR and General Motors Corporation (GM) pursuant to ANR's Rate Schedule FTS-1 (together referred to as the GM Agreements).

ANR states that the GM Agreements contain negotiated rate arrangements between ANR and GM. ANR requests that the Commission accept and approve the GM Agreements to be effective June 1, 2001.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protest will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See 18 CFR 385.2001(a)(1)(iii) and the instructions on the Commission's web site at http://www.ferc.fed.us/efi/doorbell.htm.

David P. Boergers,
Secretary.

[FR Doc. 01-15229 Filed 6-15-01; 8:45 am]

BILLING CODE 6717-01-M